DEPARTMENT OF HOMELAND SECURITY

Transportation Security Administration

Extension of Agency Information Collection Activity Under OMB Review: Critical Facility Information of the Top 100 Most Critical Pipelines

AGENCY: Transportation Security Administration, DHS.

ACTION: 30-day Notice.

SUMMARY: This notice announces that the Transportation Security Administration (TSA) has forwarded the Information Collection Request (ICR), Office of Management and Budget (OMB) control number 1652-0050, abstracted below to OMB for review and approval of an extension of the currently approved collection under the Paperwork Reduction Act (PRA). The ICR describes the nature of the information collection and its expected burden. TSA published a Federal Register notice, with a 60-day comment period, soliciting comments of the following collection of information on June 16, 2011, 76 FR 35229. The 9/11 Act required TSA to develop and implement a plan to inspect critical pipeline systems.

DATES: Send your comments by November 10, 2011. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to oira_submission@omb.eop.gov or faxed to (202) 395-6974.

FOR FURTHER INFORMATION CONTACT: Joanna Johnson, TSA PRA Officer, Office of Information Technology (OIT), TSA-11, Transportation Security Administration, 601 South 12th Street, Arlington, VA 20598-6011; telephone (571) 227-3651; e-mail TSAPRA@dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Critical Facility Information of the Top 100 Most Critical Pipelines.

Type of Request: Revision of a currently approved collection.

OMB Control Number: 1652-0050.

Forms(s): Critical Facility Security Review (CFSR).

Affected Public: Pipeline companies.

Abstract: Section 1557(b) of the Implementing the Recommendations of the 9/11 Commission Act of 2007 specifically tasked TSA to develop and implement a plan for inspecting critical facilities of the 100 most critical pipeline systems. See Public Law 110-53, 121 Stat. 266, 475 (Aug. 3, 2007). Operators determined their critical facilities based on guidance and criteria set forth in the Department of Transportation's (DOT) September 5, 2002, “Pipeline Security Information Circular” and June 2002 “Pipeline Security Contingency Planning Guidance.” With OMB approval (OMB Control Number 1652-0050), TSA reached out to the operators of the top 125 critical pipeline systems and requested they submit a listing of their critical facilities to TSA. This critical facility information was submitted to TSA between November 2008 and August 2009. In April 2011, TSA updated the “Pipeline Security Guidelines” in consultation with stakeholders and DOT. TSA is now seeking to renew its OMB approval to request critical facility information from the top 125 pipeline operators. TSA anticipates that each operator will report, on average, a total of 5 critical facilities on their system, for a total of approximately 600 critical facilities across the top 125 operators.

Once updated critical facility information is obtained, TSA intends to visit critical pipeline facilities and collect site-specific information from pipeline operators on facility security policies, procedures, and physical security measures. Information obtained on the visits will be collected on a Critical Facility Security Review (CFSR) Form. The CFSR will differ from TSA's Corporate Security Review (CSR) in that a CSR looks at corporate or company-wide security management plans and practices while the CFSR will look at individual pipeline facility security measures and procedures. TSA is seeking OMB approval to utilize the CFSR document during critical facility reviews in order to collect facility security information. Information collected from the reviews would be analyzed and used to determine strengths and weaknesses at the nation's critical pipeline facilities, areas to target for risk reduction strategies, pipeline industry implementation of the voluntary guidelines, and the need for regulations in accordance with Section 1557(d) of the Implementing the Recommendations of the 9/11 Commission Act of 2007. TSA anticipates visiting 120 critical facilities each year.

As part of this collection process, TSA intends to follow-up with pipeline operators on their implementation of security improvements and recommendations made during facility visits. During critical facility visits, TSA documents and provides recommendations to improve the security posture of the facility. TSA intends to follow-up with pipeline operators via email on their status toward implementation of the recommendations made during the critical facility visits. The follow-up will be conducted between approximately 12 and 24 months after the facility visit.

TSA will use the information collected to determine to what extent the pipeline industry is implementing the 2011 guidance document and security improvement recommendations made during critical facility visits. The information provided by owners or operators for each information collection is Sensitive Security Information (SSI), and it will be protected in accordance with procedures meeting the transmission, handling and storage requirements of SSI set forth in 49 CFR parts 15 and 1520.

Number of Respondents: 125 for the renewal of the critical facility information and 590 for the critical facility security reviews and recommendations follow-up.

Estimated Annual Burden Hours: An estimated 2,730 hours in the first year and 1,080 hours annually in subsequent years.

Issued in Arlington, Virginia, on October 4, 2011.
Joanna Johnson,
TSA Paperwork Reduction Act Officer, Office of Information Technology.

[FR Doc. 2011-26188 Filed 10-7-11; 8:45 am]

BILLING CODE 9110-05-P